DEPARTMENT OF THE INTERIOR

Bureau of Safety and Environmental Enforcement

[DOI-2018-0015; 19XE1700DX EECC000000 EX1EX0000.G40000]

Privacy Act of 1974; System of Records

AGENCY: Bureau of Safety and Environmental Enforcement, Interior.

ACTION: Rescindment of a system of records notice.

SUMMARY: The Department of the Interior, Bureau of Safety and Environmental Enforcement is issuing a public notice of its intent to rescind the Privacy Act system of records notice, INTERIOR/MMS-12, Lessee/Operator Training Files from its existing inventory. The Lessee/Operator Training Files system of records was managed by the former Minerals Management Service in accordance with the Well Control and Production Safety Training regulation. Under this regulation, the Minerals Management Service accredited institutions to train lessee and operator personnel and to certify that they were competent and safe to work on the Outer Continental Shelf. Revisions to the regulation in October 2000 eliminated requirements for the Minerals Management Service to accredit institutions and for those institutions to provide copies of training certificates on individuals to the Minerals Management Service. The materials associated with these eliminated requirements were the subject matter of the relevant system of records. Subsequently, upon the dissolution of the Minerals Management Service, the responsibility for this system of records was transferred to the Bureau of Safety and Environmental Enforcement, which is now formally rescinding the INTERIOR/MMS-12, Lessee/Operator Training Files system of records notice.

DATES: These changes take effect upon publication.

ADDRESSES: You may submit comments, identified by docket number [DOI-2018-0015], by any of the following methods:

• Federal e-Rulemaking Portal: http://www.regulations.gov. Follow the instructions for submitting comments.

• Mail: Teri Barnett, Departmental Privacy Officer, U.S. Department of the Interior, 1849 C Street NW, Room 7112, Washington, DC 20240.

• Hand-delivering comments to Teri Barnett, Departmental Privacy Officer, U.S. Department of the Interior, 1849 C Street NW, Room 7112, Washington, DC 20240.

• Email: DOI_Privacy@ios.doi.gov.

All submissions received must include the agency name and docket number. All comments received will be posted without change to http://www.regulations.gov, including any personal information provided. You should be aware your entire comment including your personal identifying information, such as your address, phone number, email address, or any other personal identifying information in your comment, may be made publicly available at any time. While you may request to withhold your personal identifying information from public review, we cannot guarantee we will be able to do so.

FOR FURTHER INFORMATION CONTACT: Rowena Dufford, Associate Privacy Officer, Bureau of Safety and Environmental Enforcement, 45600 Woodland Road, Mail Stop VAE-MSD, Sterling, VA 20166, email at privacy@bsee.gov or by telephone at (703) 787-1257.

SUPPLEMENTARY INFORMATION: The former Minerals Management Service (MMS) described the requirements for lessees and operators to train their personnel in 30 Code of Federal Regulations Part 250, Subpart O, Well Control and Production Safety Training. This regulation assigned responsibility to MMS for oversight of training for well control and production safety systems, and oversight of MMS accredited institutions to train and certify lessee and operator personnel to work competently and safely on the Outer Continental Shelf. Training organizations were required to provide copies of training certificates, which included the individual's full name, Social Security number, and training completion date, among other categories of records, which were maintained under Privacy Act system of records notice (SORN), INTERIOR/MMS-12, Lessee/Operator Training Files.

In October 2000, the regulation was amended to reassign responsibilities for overseeing well control and production safety training to lessees and operators. When the regulation went into effect, the records associated with the regulation no longer met the Privacy Act standard for a system of records and eliminated the need for the SORN. The records covered by this SORN were disposed of in accordance with the prevailing records retention schedule.

In May 2010, Secretary's Order 3299 directed the division of MMS into three independent entities with separate and clearly defined missions: The Bureau of Safety and Environmental Enforcement (BSEE), the Bureau of Ocean Energy Management, and the Office of Natural Resources Revenue. Responsibilities for this system of records notice transferred to BSEE. Pursuant to the provisions of the Privacy Act of 1974, as amended, the Bureau of Safety and Environmental Enforcement is formally rescinding the INTERIOR/MMS-12, Lessee/Operator Training Files system of records notice from its system of records inventory. Rescinding the INTERIOR/MMS-12, Lessee/Operator Training Files system of records notice will have no adverse impacts on individuals as the records were disposed of in accordance with the records retention schedule. This rescindment will also promote the overall streamlining and management of Department of the Interior Privacy Act systems of records.

SYSTEM NAME AND NUMBER:

INTERIOR/MMS-12, Lessee/Operator Training Files.

HISTORY:

64 FR 8118 (February 18, 1999); modification published at 74 FR 42922 (August 25, 2009).

Teri Barnett,
Departmental Privacy Officer, Department of the Interior.

[FR Doc. 2019-05286 Filed 3-22-19; 8:45 am]

BILLING CODE 4310-VH-P